DEPARTMENT OF HEALTH AND HUMAN SERVICES

Centers for Medicare & Medicaid Services

[CMS-5052-N2]

Medicare Program; Solicitation for Proposals for the Medicare Graduate Nurse Education Demonstration—Deadline Extension

AGENCY: Centers for Medicare & Medicaid Services (CMS), HHS.

ACTION: Notice of extension of deadline.

SUMMARY: This notice extends the deadline for submission of proposals to apply to participate in the Medicare Graduate Nurse Education (GNE) Demonstration.

DATES: Proposals will be considered timely if they are received on or before 5 p.m., Eastern Standard Time (E.S.T.) on May 25, 2012.

ADDRESSES: Proposals should be mailed to the following address: Centers for Medicare & Medicaid Services, Center for Medicare & Medicaid Innovation, Attention: Alexandre Laberge, Mail Stop: WB-06-05, 7500 Security Boulevard, Baltimore, Maryland 21244-1850.

FOR FURTHER INFORMATION CONTACT: Alexandre Laberge (410) 786-8625 or by email at GNE@cms.hhs.gov.

SUPPLEMENTARY INFORMATION: General Information: Please refer to file code (CMS-5052-N2) on the application. Proposals (an unbound original and 10 electronic copies on CD-ROM) must be typed for clarity and should not exceed 50 double-spaced pages, exclusive of cover letter, the executive summary, resumes, forms, and no more than 15 pages supporting documentation. Because of staffing and resource limitations, we cannot accept proposals by facsimile (FAX) transmission. Applicants may, but are not required to, submit a total of 10 copies to assure that each reviewer receives a proposal in the manner intended by the applicant (for example, collated, tabulated color copies). Hard copies and CD-ROM electronic copies must be identical.

Eligible Organizations: As set forth in section 5509 of the Affordable Care Act an “eligible hospital” may apply to perform the responsibilities specified. Section 5509(e)(5) of the Affordable Care Act defines an “eligible hospital” to mean a hospital (as defined in section 1861(e) of the Social Security Act (the Act) (42 U.S.C. 1395x)) or a critical access hospital (as defined in section 1861(mm)(1) of the Act) that has a written agreement in place with—(A) 1 or more applicable schools of nursing; and (B) 2 or more applicable non-hospital community-based care settings. The written agreement must meet specific requirements set forth in section 5509 of the Affordable Care Act including—(1) The obligations of the eligible partners with respect to the provision of qualified training; and (2) the obligation of the eligible hospital to reimburse such eligible partners applicable (in a timely manner) for the costs of such qualified training attributable to partner. The Demonstration will include up to five eligible hospitals.

I. Background

We are seeking eligible hospital applicants, which includes critical access hospitals, to partner with one or more applicable schools of nursing (SONs) and two or more applicable nonhospital community-based care settings (CCSs) to provide advanced practice registered nurse (APRN) students with qualified training. See section 5509(e) of the Affordable Care Act for the definitions of the terms used in the preceding sentence. At least half of the clinical training must be provided in non-hospital CCSs which may include federally qualified health centers (FQHCs), rural health clinics (RHCs), and other nonhospital settings as determined appropriate by the Secretary. However, the Secretary may waive the requirement under section 5509(e)(7)(A)(ii) of the Affordable Care Act with respect to eligible hospitals located in rural or medically underserved areas.

On March 22, 2012, we posted a solicitation for proposals on the Innovation Center Web site. In addition, in the March 22, 2012 Federal Register (77 FR 16841) we published a notice of solicitation for proposals to participate in the Graduate Nurse Education (GNE) Demonstration. The Demonstration provides a source of Medicare funding for the reasonable costs for clinical training attributable to the incremental increase in the number of APRN students enrolled in participating SONs during the Demonstration relative to an established baseline. Section 5509 of the Affordable Care Act sets forth limitations on the reasonable costs reimbursable under the Demonstration. We will make interim payments to selected hospitals with a cost settlement process using Medicare reasonable cost principles. Participating eligible hospitals must establish written agreements with one or more applicable SONs and two or more applicable non-hospital CCSs that define the obligations of each partner with respect to the provision of qualified training and the corresponding eligible hospital's obligation to reimburse eligible partners applicable (in a timely manner) for the costs of such qualified training attributable to the partner and the mechanism for partner reimbursement. As outlined in the GNE Solicitation, applicant hospitals may partner with other hospitals in the Demonstration and we will support an expanded configuration of hospital relationships under certain circumstances. For more details, see the Solicitation, which is available on the Innovation Center Web site at http://www.innovations.cms.gov/initiatives/GNE/index.html.

II. Provisions of This Notice

The CMS Innovation Center has received much interest and a large number of inquires about the GNE Demonstration announced on the CMS Web site and in the Federal Register. In response to requests from the community of potential applicants to allow for some additional time to prepare the proposals for participation in the Demonstration, and in light of our continued commitment to work in partnership with our stakeholders, the Innovation Center has modified the deadline for proposals so that the applications from eligible hospital applicants are due by the date specified in the DATES section of this notice.

III. Information Collection Requirements

In accordance with section 5509(a)(4) of the Affordable Care Act, this information collection requirement is not subject to the Paperwork Reduction Act of 1995. Consequently, it need not be reviewed by the Office of Management and Budget under the authority of the Paperwork Reduction Act of 1995 (44 U.S.C. chapter 35).

Authority: Section 5509 of the Affordable Care Act.

(Catalog of Federal Domestic Assistance Program No. 93.773, Medicare—Hospital Insurance; and Program No. 93.774, Medicare—Supplementary Medical Insurance Program)

Dated: May 15, 2012.
Marilyn Tavenner,
Acting Administrator, Centers for Medicare & Medicaid Services.

[FR Doc. 2012-12131 Filed 5-17-12; 8:45 am]

BILLING CODE 4120-01-P